DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2014

AGENCY: Office of the Secretary, USDA.

ACTION: Semiannual regulatory agenda.

SUMMARY: This agenda provides summary descriptions of significant and not significant regulations being developed in agencies of the U.S. Department of Agriculture (USDA) in conformance with Executive Orders (EO) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with EO 13563.

The Agricultural Act of 2014 was signed into law on February 7. The new law makes major changes in commodity programs, streamlines conservation programs, modifies provisions of the Supplemental Nutrition Assistance Program (SNAP), and expands programs for specialty crops, organic farmers, bioenergy, rural development, and beginning farmers and ranchers. Implementing these changes will require USDA to modify existing regulations and in some cases introduce new regulatory actions. Due to the rigorous process in place for modifying and proposing such actions, much of the information necessary for inclusion in the Spring Regulatory Agenda was unavailable at the time of publication. USDA takes seriously its commitments to transparency, collaboration and public participation, and strongly encourages the public to review the steps it is taking to implement the Agricultural Act of 2014, including up-to-date regulatory information, at its Farm Bill Web site: http://www.usda.gov/wps/portal/usda/usdahome?navid=farmbill.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: March 17, 2014.
Michael Poe,
Chief, Legislative and Regulatory Staff.

Agricultural Marketing Service—Proposed Rule Stage
Sequence No. | Title | Regulation Identifier No.
1 | National Organic Program, Origin of Livestock, NOP-11-0009 | 0581-AD08
2 | National Organic Program, Organic Pet Food Standards | 0581-AD20
3 | National Organic Program; Sunset Review (2012) for Sodium Nitrate | 0581-AD22
4 | National Organic Program, Organic Apiculture Practice Standard, NOP-12-0063 | 0581-AD31

Agricultural Marketing Service—Final Rule Stage
Sequence No. | Title | Regulation Identifier No.
5 | National Organic Program: Sunset Review for Nutrient Vitamins and Minerals | 0581-AD17

Farm Service Agency—Completed Actions
Sequence No. | Title | Regulation Identifier No.
6 | Farm Loan Programs, Clarification and Improvement | 0560-AI14

Animal and Plant Health Inspection Service—Proposed Rule Stage
Sequence No. | Title | Regulation Identifier No.
7 | Scrapie in Sheep and Goats | 0579-AC92
8 | Plant Pest Regulations; Update of General Provisions | 0579-AC98
9 | Bovine Spongiform Encephalopathy and Scrapie; Importation of Small Ruminants and Their Germplasm, Products, and Byproducts | 0579-AD10
10 | Brucellosis and Bovine Tuberculosis; Update of General Provisions | 0579-AD65
11 | Establishing a Performance Standard for Authorizing the Importation and Interstate Movement of Fruits and Vegetables | 0579-AD71

Animal and Plant Health Inspection Service—Final Rule Stage
Sequence No. | Title | Regulation Identifier No.
12 | Importation of Poultry and Poultry Products From Regions Affected With Highly Pathogenic Avian Influenza | 0579-AC36
13 | Importation of Live Dogs | 0579-AD23
14 | Importation of Wood Packaging Material From Canada | 0579-AD28
15 | Importation of Beef From a Region in Brazil | 0579-AD41
16 | Treatment of Firewood and Spruce Logs Imported From Canada | 0579-AD60

Animal and Plant Health Inspection Service—Long-Term Actions
Sequence No. | Title | Regulation Identifier No.
17 | Introduction of Organisms and Products Altered or Produced Through Genetic Engineering | 0579-AC31

Animal and Plant Health Inspection Service—Completed Actions
Sequence No. | Title | Regulation Identifier No.
18 | Chronic Wasting Disease in Elk and Deer; Interstate Movement Restrictions and Payment of Indemnity | 0579-AB35

Rural Housing Service—Final Rule Stage
Sequence No. | Title | Regulation Identifier No.
19 | Guaranteed Single-Family Housing | 0575-AC18

Food and Nutrition Service—Proposed Rule Stage
Sequence No. | Title | Regulation Identifier No.
20 | Child and Adult Care Food Program: Meal Pattern Revisions Related to the Healthy, Hunger-Free Kids Act of 2010 | 0584-AE18

Food and Nutrition Service—Long-Term Actions
Sequence No. | Title | Regulation Identifier No.
21 | Child Nutrition Programs: Local School Wellness Policy Implementation Under the Healthy, Hunger-Free Kids Act of 2010 | 0584-AE25

Food and Nutrition Service—Completed Actions
Sequence No. | Title | Regulation Identifier No.
22 | Certification of Compliance With Meal Requirements for the National School Lunch Program Under the Healthy, Hunger-Free Kids Act of 2010 | 0584-AE15

Food Safety and Inspection Service—Proposed Rule Stage
Sequence No. | Title | Regulation Identifier No.
23 | Change in Accredited Lab Fees | 0583-AD55

Food Safety and Inspection Service—Final Rule Stage
Sequence No. | Title | Regulation Identifier No.
24 | Mandatory Inspection of Certain Fish, Including Catfish and Catfish Products | 0583-AD36

Forest Service—Proposed Rule Stage
Sequence No. | Title | Regulation Identifier No.
25 | Management of Surface Activities Associated With Outstanding Mineral Rights on National Forest System Lands | 0596-AD03
26 | Ski Area—D Clauses: Resource and Improvement Protection, Water Facilities and Water Rights | 0596-AD14

DEPARTMENT OF AGRICULTURE (USDA)

Proposed Rule Stage

Agricultural Marketing Service (AMS)

1. National Organic Program, Origin of Livestock, NOP-11-0009

Legal Authority: 7 U.S.C. 6501

Abstract: The current regulations provide two tracks for replacing dairy animals which are tied to how dairy farmers transition to organic production. Farmers who transition an entire distinct herd must thereafter replace dairy animals with livestock that has been under organic management from the last third of gestation. Farmers who do not transition an entire distinct herd may perpetually obtain replacement animals that have been managed organically for 12 months prior to marketing milk or milk products as organic. The proposed action would eliminate the two track system and require that upon transition, all existing and replacement dairy animals from which milk or milk products are intended to be sold, labeled, or represented as organic, must be managed organically from the last third of gestation.

Timetable:

Action | Date | FR Cite
NPRM | 07/00/14

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD08

2. National Organic Program, Organic Pet Food Standards

Legal Authority: 7 U.S.C. 6501

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically-based regulations for voluntary adoption by State jurisdictions to ensure the safety, quality, and effectiveness of feed. In November 2008, the NOSB approved a final recommendation for organic pet food standards incorporating the provisions drafted by the pet food task force.

Timetable:

Action | Date | FR Cite
NPRM | 10/00/14
Final Action | 10/00/15

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD20

3. National Organic Program; Sunset Review (2012) for Sodium Nitrate

Legal Authority: 7 U.S.C. 6501

Abstract: This action proposes to amend the listing for sodium nitrate on the National List of Allowed and Prohibited Substances as part of the 2012 sunset review process. Consistent with the recommendation from the National Organic Standards Board, this amendment would prohibit the use of the substance in its entirety from organic crop production.

Timetable:

Action | Date | FR Cite
NPRM | 09/00/14

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD22

4. National Organic Program, Organic Apiculture Practice Standard, NOP-12-0063

Legal Authority: 7 U.S.C. 6501

Abstract: This action proposes to amend the USDA organic regulations to reflect an October 2010 recommendation submitted to the Secretary by the National Organic Standards Board (NOSB) concerning the production of organic apicultural (i.e. beekeeping) products. Instead of continuing to allow certifying agents to certify apiculture to the organic livestock standards, this action would establish certification standards specifically for organic bees and bee products. The scope of this action includes provisions for: transition to organic apiculture production, replacement bees, hive construction forage areas, supplemental feeding health care, pest control practices, and an organic apiculture system plan. This action would also add a new scope of certification and accreditation to the USDA organic regulations. This action does not regulate the use of bees for pollination of organic crops.

Timetable:

Action | Date | FR Cite
NPRM | 11/00/14
Final Action | 11/00/15

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD31

DEPARTMENT OF AGRICULTURE (USDA)

Final Rule Stage

Agricultural Marketing Service (AMS)

5. National Organic Program: Sunset Review for Nutrient Vitamins and Minerals

Legal Authority: 7 U.S.C. 6501

Abstract: The Agricultural Marketing Service (AMS) intends to amend the listing for nutrient vitamins and minerals on the U.S. Department of Agriculture's (USDA) National List of Allowed and Prohibited Substances (National List) to clarify what synthetic substances are allowed as vitamins and minerals in products labeled as “organic” or “made with organic (specified ingredients or food group(s)).” In September 2012, AMS published an interim rule (77 FR 59287) to renew the exemption (use) for nutrient vitamins and minerals which was otherwise due to expire, or sunset, on October 21, 2012. The interim rule followed a proposed rule in which AMS suggested amending the listing to allow only vitamins and minerals which are essential for food and required for infant formula. Under the proposed action, synthetic substances that are not specifically referenced by the exemption would be prohibited from use in organic products unless there is an explicit National List exemption for such use. AMS is evaluating the comments on the interim rule and considering the impact of 13 National Organic Standards Board (NOSB) recommendations for affected synthetic nutrients that were petitioned for addition to the National List.

Timetable:

Action | Date | FR Cite
NPRM | 01/12/12 | 77 FR 1980
NPRM Comment Period End | 03/12/12
Interim Final Rule | 09/27/12 | 77 FR 59287
Interim Final Rule Comment Period End | 10/21/12
Final Action | 01/00/15

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD17

BILLING CODE 3410-02-P

DEPARTMENT OF AGRICULTURE (USDA)

Completed Actions

Farm Service Agency (FSA)

6. Farm Loan Programs, Clarification and Improvement

Legal Authority: 5 U.S.C. 301; 7 U.S.C. 1989

Abstract: This rulemaking initiative has been completed. The rule amended farm loan programs (FLPs) regulations for loan servicing including the following areas: Real estate appraisals; Lease, subordination, and disposition of security; and Conservation contracts.

FSA also made technical and conforming amendments. The amendments are technical corrections, clarifications, and procedural improvements that further streamline normal servicing activities and reduce burden on borrowers while still protecting the loan security.

Completed:

Reason | Date | FR Cite
Final Action | 11/01/13 | 78 FR 65523

Regulatory Flexibility Analysis Required: Yes.

Agency Contact: Deirdre Holder, Phone: 202 205-5851; Fax: 202 720-5233, Email: deirdre.holder@wdc.usda.gov.

RIN: 0560-AI14

BILLING CODE 3410-05-P

DEPARTMENT OF AGRICULTURE (USDA)

Proposed Rule Stage

Animal and Plant Health Inspection Service (APHIS)

7. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 07/00/14
NPRM Comment Period End | 09/00/14

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235, Phone: 301 851-3509.

RIN: 0579-AC92

8. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are proposing to revise our regulations regarding the movement of plant pests. We are proposing to regulate the movement of not only plant pests, but also biological control organisms and associated articles. We are proposing risk-based criteria regarding the movement of biological control organisms, and are proposing to establish regulations to allow the movement in interstate commerce of certain types of plant pests without restriction by granting exceptions from permitting requirements for those pests. We are also proposing to revise our regulations regarding the movement of soil and to establish regulations governing the biocontainment facilities in which plant pests, biological control organisms, and associated articles are held. This proposed rule replaces a previously published proposed rule, which we are withdrawing as part of this document. This proposal would clarify the factors that would be considered when assessing the risks associated with the movement of certain organisms, facilitate the movement of regulated organisms and articles in a manner that also protects U.S. agriculture, and address gaps in the current regulations.

Timetable:

Action | Date | FR Cite
Notice of Intent To Prepare an Environmental Impact Statement | 10/20/09 | 74 FR 53673
Notice Comment Period End | 11/19/09
NPRM | 09/00/14
NPRM Comment Period End | 11/00/14

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236, Phone: 301 851-2323.

RIN: 0579-AC98

9. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 11/00/14
NPRM Comment Period End | 01/00/15

Regulatory Flexibility Analysis Required: Yes.

Agency Contact: Peter Merrill, Assistant Director, Technical Trade Services, National Center for Import and Export, VS, Department of Agriculture, Animal and Plant Health Inspection Service, 4700 River Road, Unit 39, Riverdale, MD 20737-1231, Phone: 301 851-3300.

RIN: 0579-AD10

10. Brucellosis and Bovine Tuberculosis; Update of General Provisions

Legal Authority: 7 U.S.C. 1622; 7 U.S.C. 8301 to 8317; 15 U.S.C. 1828; 21 U.S.C. 136 and 136a; 31 U.S.C. 9701

Abstract: This rulemaking would consolidate the regulations governing bovine tuberculosis (TB), currently found in 9 CFR part 77, and those governing brucellosis, currently found in 9 CFR part 78. As part of this consolidation, we are proposing to transition the TB and brucellosis programs away from a State status system based on disease prevalence. Instead, States and tribes would implement an animal health plan that identifies sources of the diseases within the State or tribe and specifies mitigations to address the risk posed by these sources. The consolidated regulations would also set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison to make these requirements clearer and assure that they more effectively mitigate the risk of introduction of the diseases into the United States.

Timetable:

Action | Date | FR Cite
NPRM | 08/00/14 |
NPRM Comment Period End | 10/00/14 |

Regulatory Flexibility Analysis Required: Yes.

Agency Contact: Langston Hull, National Center for Import and Export, Department of Agriculture, Animal and Plant Health Inspection Service, 4700 River Road, Unit 39, Riverdale, MD 20737, Phone: 301 851-3300.

C William Hench, Senior Staff Veterinarian, Ruminant Health Programs, National Center for Animal Health Programs, vs, Department of Agriculture, Animal and Plant Health Inspection Service, 2150 Centre Avenue, Building B-3E20, Ft. Collins, CO 80526, Phone: 970 494-7378.

RIN: 0579-AD65

11. Establishing a Performance Standard for Authorizing the Importation and Interstate Movement of Fruits and Vegetables

Legal Authority: 7 U.S.C. 450; 7 U.S.C. 7701 to 7772; 7 U.S.C. 7781 to 7786; 21 U.S.C. 136 and 136a

Abstract: This rulemaking would amend our regulations governing the importations of fruits and vegetables by broadening our existing performance standard to provide for consideration of all new fruits and vegetables for importation into the United States using a notice-based process. It would also remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This proposal would allow for the consideration of requests to authorize the importation or interstate movement of new fruits and vegetables in a manner that enables a more flexible and responsive regulatory approach to evolving pest situations in both the United States and exporting countries. It would not, however, alter the science-based process in which the risk associated with importation or interstate movement of a given fruit or vegetable is evaluated or the manner in which risks associated with the importation or interstate movement of a fruit or vegetable are mitigated.

Timetable:

Action | Date | FR Cite
NPRM | 06/00/14 |
NPRM Comment Period End | 08/00/14 |

Regulatory Flexibility Analysis Required: Yes.

Agency Contact: Matthew Rhoads, Associate Executive Director, Plant Health Programs, PPQ, Department of Agriculture, Animal and Plant Health Inspection Service, 4700 River Road, Unit 131, Riverdale, MD 20737-1231, Phone: 301 851-2133.

RIN: 0579-AD71

DEPARTMENT OF AGRICULTURE (USDA)

Final Rule Stage

Animal and Plant Health Inspection Service (APHIS)

12. Importation of Poultry and Poultry Products From Regions Affected With Highly Pathogenic Avian Influenza

Legal Authority: 7 U.S.C. 1622; 7 U.S.C. 8301 to 8317; 21 U.S.C. 136 and 136a; 31 U.S.C. 9701

Abstract: This rulemaking will amend the regulations concerning the importation of animals and animal products to prohibit or restrict the importation of birds, poultry, and bird and poultry products from regions that have reported the presence in commercial birds or poultry of highly pathogenic avian influenza of any subtype. This action will supplement existing prohibitions and restrictions on articles from regions that have reported the presence of Newcastle disease or highly pathogenic avian influenza subtype H5N1.

Timetable:

Action | Date | FR Cite
Interim Final Rule | 01/24/11 | 76 FR 4046
Interim Final Rule Comment Period End | 03/25/11 |
Interim Final Rule Comment Period Reopened | 05/03/11 | 76 FR 24793
Interim Final Rule Comment Period Reopened End | 05/18/11 |
Interim Final Rule Comment Period Reopened | 06/12/12 | 77 FR 34783
Interim Final Rule Comment Period Reopened End | 07/12/12 |
Final Rule | 09/00/14 |

Regulatory Flexibility Analysis Required: Yes.

Agency Contact: Javier Vargas, Case Manager, National Center for Import and Export, VS, Department of Agriculture, Animal and Plant Health Inspection Service, 4700 River Road, Unit 38, Riverdale, MD 20737-1231, Phone: 301 851-3300.

RIN: 0579-AC36

13. Importation of Live Dogs

Legal Authority: 7 U.S.C. 2148

Abstract: We are amending the regulations to implement an amendment to the Animal Welfare Act (AWA). The Food, Conservation, and Energy Act of 2008 added a new section to the AWA to restrict the importation of certain live dogs. Consistent with this amendment, this rule prohibits the importation of dogs, with limited exceptions, from any part of the world into the continental United States or Hawaii for purposes of resale, research, or veterinary treatment, unless the dogs are in good health, have received all necessary vaccinations, and are at least 6 months of age. This action is necessary to implement the amendment to the AWA and will help to ensure the welfare of imported dogs.

Timetable:

Action | Date | FR Cite
NPRM | 09/01/11 | 76 FR 54392
NPRM Comment Period End | 10/31/11
Final Rule | 07/00/14

Regulatory Flexibility Analysis Required: Yes.

Agency Contact: Gerald Rushin, Veterinary Medical Officer, Animal Care, Department of Agriculture, Animal and Plant Health Inspection Service, 4700 River Road, Unit 84, Riverdale, MD 20737-1231, Phone: 301 851-3740.

RIN: 0579-AD23

14. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11
Final Rule | 07/00/14

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

15. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking would amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States, provided certain conditions are met. This action would provide for the importation of beef from the designated region in Brazil into the United States while continuing to protect the United States against the introduction of foot-and-mouth disease.

Timetable:

Action | Date | FR Cite
NPRM | 12/23/13 | 78 FR 77370
NPRM Comment Period End | 02/21/14
Final Rule | 11/00/14

Regulatory Flexibility Analysis Required: Yes.

Agency Contact: Silvia Kreindel, Senior Staff Veterinarian, Regionalization Evaluation Services Staff, NCIE, VS, Department of Agriculture, Animal and Plant Health Inspection Service, 4700 River Road, Unit 38, Riverdale, MD 20737-1231, Phone: 301 851-3313.

RIN: 0579-AD41

16. Treatment of Firewood and Spruce Logs Imported From Canada

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary on an immediate basis to prevent the artificial spread of pests, including emerald ash borer, Asian longhorned beetle, gypsy moth, European spruce bark beetle, and brown spruce longhorn beetle to noninfested areas of the United States and to prevent further introduction of these pests into the United States.

Timetable:

Action | Date | FR Cite
Interim Final Rule | 07/00/14
Interim Final Rule Comment Period End | 09/00/14

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD60

DEPARTMENT OF AGRICULTURE (USDA)

Long-Term Actions

Animal and Plant Health Inspection Service (APHIS)

17. Introduction of Organisms and Products Altered or Produced Through Genetic Engineering

Legal Authority: 7 U.S.C. 7701 to 7772; 7 U.S.C. 7781 to 7786; 31 U.S.C. 9701

Abstract: This rulemaking will amend the regulations regarding the importation, interstate movement, and environmental release of certain genetically engineered organisms. This rule will affect persons involved in the importation, interstate movement, or release into the environment of genetically engineered plants and certain other genetically engineered organisms.

Timetable:

Action | Date | FR Cite
Notice of Intent to Prepare an Environmental Impact Statement | 01/23/04 | 69 FR 3271
Comment Period End | 03/23/04
Notice of Availability of Draft Environmental Impact Statement | 07/17/07 | 72 FR 39021
Comment Period End | 09/11/07
NPRM | 10/09/08 | 73 FR 60007
NPRM Comment Period End | 11/24/08
Correction | 11/10/08 | 73 FR 66563
NPRM Comment Period Reopened | 01/16/09 | 74 FR 2907
NPRM Comment Period End | 03/17/09
NPRM; Notice of Public Scoping Session | 03/11/09 | 74 FR 10517
NPRM Comment Period Reopened | 04/13/09 | 74 FR 16797
NPRM Comment Period End | 06/29/09
Next Action Undetermined

Regulatory Flexibility Analysis Required: Yes.

Agency Contact: Andrea Huberty, Phone: 301 851-3880.

RIN: 0579-AC31

DEPARTMENT OF AGRICULTURE (USDA)

Completed Actions

Animal and Plant Health Inspection Service (APHIS)

18. Chronic Wasting Disease in Elk and Deer; Interstate Movement Restrictions and Payment of Indemnity

Legal Authority: 7 U.S.C. 8301 to 8317; 21 U.S.C. 111 to 113; 21 U.S.C. 120 and 121; 21 U.S.C. 125; 21 U.S.C. 134(b)

Abstract: This rulemaking establishes a herd certification program and requirements for the interstate movement of farmed or captive deer, elk, and moose and authorizes the payment of indemnity, subject to availability of funds, for the depopulation of farmed or captive deer, elk, and moose that have been infected with, or exposed to, chronic wasting disease (CWD).

Completed:

Reason | Date | FR Cite
Notice | 12/31/13 | 78 FR 79659
Notice Comment Period End | 03/31/14
Final Rule | 04/29/14 | 79 FR 23887
Final Rule Effective | 04/29/14

Regulatory Flexibility Analysis Required: Yes.

Agency Contact: Patrice Klein; Phone: 301 851-3435.

RIN: 0579-AB35

BILLING CODE 3410-34-P

DEPARTMENT OF AGRICULTURE (USDA)

Final Rule Stage

Rural Housing Service (RHS)

19. Guaranteed Single-Family Housing

Legal Authority: 5 U.S.C. 301; 7 U.S.C. 1989; 42 U.S.C. 1480

Abstract: The Guaranteed Single-Family Housing Loan Program interim final rule encourages new residential construction in rural areas. The new rule provides for a “construction-to-permanent financing” process. Lenders will be able to obtain a loan note guarantee when construction commences, in a “single close” transaction, rather than first obtaining short term construction financing and then later obtaining the guaranteed loan. The new rule streamlines the financing of building new homes.

The interim final rule also expands the types of lenders who are eligible to participate, increasing the reach of the program to small community banks in remote areas and to credit unions with memberships who are teachers as well as other groups. The rule change will allow participation by any lending entity supervised and regulated by the Federal Deposit Insurance Corporation, the National Credit Union Administration, the Office of the Comptroller of the Currency, the Federal Reserve Banks, or the Federal Housing Finance Board. Currently, these entities may not be eligible lenders.

Timetable:

Action | Date | FR Cite
NPRM | 10/28/11 | 76 FR 66860
NPRM Comment Period End | 12/27/11
Interim Final Rule | 12/09/13 | 78 FR 73927
Interim Final Rule Comment Period End | 01/08/14
Interim Final Rule Effective | 09/01/14
Final Rule | 09/00/15

Regulatory Flexibility Analysis Required: Yes.

Agency Contact: Joaquin Tremols, Acting Director, Single-Family Housing Guaranteed Loan Division, Department of Agriculture, Rural Housing Service, 1400 Independence Avenue SW., STOP 0784, Washington, DC 20250; Phone: 202 720-1465; Fax: 202 205-2476; Email: joaquin.tremols@wdc.usda.gov.

RIN: 0575-AC18

BILLING CODE 3410-XV-P

DEPARTMENT OF AGRICULTURE (USDA)

Proposed Rule Stage

Food and Nutrition Service (FNS)

20. Child and Adult Care Food Program: Meal Pattern Revisions Related to the Healthy, Hunger-Free Kids Act of 2010

Legal Authority: Pub. L. 111-296

Abstract: This proposal would implement section 221 of the Healthy, Hunger-Free Kids Act of 2010 (Pub. L. 111-296; the Act) which requires USDA to review and update, no less frequently than once every 10 years, requirements for meals served under the Child and Adult Care Food Program (CACFP) to ensure that meals are consistent with the most recent Dietary Guidelines for Americans and relevant nutrition science.

Timetable:

Action | Date | FR Cite
NPRM | 07/00/14
NPRM Comment Period End | 10/00/14

Regulatory Flexibility Analysis Required: Yes.

Agency Contact: James F Herbert, Regulatory Review Specialist, Department of Agriculture, Food and Nutrition Service, 3101 Park Center Drive, Alexandria, VA 22302; Phone: 703 305-2572; Email: james.herbert@fns.usda.gov.

Lynnette M Thomas, Chief, Planning and Regulatory Affairs Branch, Department of Agriculture, Food and Nutrition Service, 3101 Park Center Drive, Alexandria, VA 22302; Phone: 703 605-4782; Email: lynnette.thomas@fns.usda.gov.

RIN: 0584-AE18

DEPARTMENT OF AGRICULTURE (USDA)

Long-Term Actions

Food and Nutrition Service (FNS)

21. Child Nutrition Programs: Local School Wellness Policy Implementation Under the Healthy, Hunger-Free Kids Act of 2010

Legal Authority: Pub. L. 111-296

Abstract: This proposed rule would codify a provision of the Healthy, Hunger-Free Kids Act (Pub. L. 111-296; the Act) under 7 CFR parts 210 and 220. Section 204 of the Act requires each local educational agency (LEA) to establish, for all schools under its jurisdiction, a local school wellness policy. The Act requires that the wellness policy include goals for nutrition, nutrition education, physical activity, and other school-based activities that promote student wellness. In addition, the Act requires that local educational agencies ensure stakeholder participation in development of their local school wellness policies, and periodically assess compliance with the policies, and disclose information about the policies to the public.

Timetable:

Action | Date | FR Cite
NPRM | 02/26/14 | 79 FR 10693
NPRM Comment Period End | 04/28/14
Next Action Undetermined

Regulatory Flexibility Analysis Required: Yes.

Agency Contact: James F Herbert; Phone: 703 305-2572; Email: james.herbert@fns.usda.gov.

Lynnette M Thomas; Phone: 703 605-4782; Email: lynnette.thomas@fns.usda.gov.

RIN: 0584-AE25

DEPARTMENT OF AGRICULTURE (USDA)

Completed Actions

Food and Nutrition Service (FNS)

22. Certification of Compliance With Meal Requirements for the National School Lunch Program Under the Healthy, Hunger-Free Kids Act of 2010

Legal Authority: Pub. L. 111-296

Abstract: This rule codifies section 201 of the Healthy, Hunger-Free Kids Act (Pub. L. 111-296) under 7 CFR part 210 directing the Secretary to provide, an additional 6 cents per lunch, adjusted annually for changes in the Consumer Price Index, for schools that are certified to be in compliance with the interim/final regulation, “Nutrition Standards in the National School Lunch and Breakfast Programs,” (77 FR 4088, January 26, 2012). This rule establishes the compliance standards that State agencies will use to certify schools that are eligible to receive the rate increase.

Completed:

Reason | Date | FR Cite
Final Action | 01/03/14 | 79 FR 325
Final Action Effective | 03/04/14

Regulatory Flexibility Analysis Required: Yes.

Agency Contact: James F Herbert; Phone: 703 305-2572; Email: james.herbert@fns.usda.gov.

Lynnette M Thomas, Phone: 703 605-4782, Email: lynnette.thomas@fns.usda.gov.

RIN: 0584-AE15

BILLING CODE 3410-30-P

DEPARTMENT OF AGRICULTURE (USDA)

Proposed Rule Stage

Food Safety and Inspection Service (FSIS)

23. • Change in Accredited Lab Fees

Legal Authority: 21 U.S.C. 601, et seq.; 21 U.S.C. 451, et seq.; 7 U.S.C. 138

Abstract: The Food Safety Inspection Service (FSIS) is proposing to amend its regulations to change the fees it charges for the accreditation and the maintenance of accreditation of non-Federal laboratories for the FSIS Accredited Lab Program (ALP). Currently, the Agency charges a flat annual fee of $5,000 for each accreditation or maintenance of accreditation. Laboratories that participate in FSIS' ALP can receive accreditation in one to six analyte classes. FSIS is proposing to charge laboratories $5,000 per year for the first analyte class accreditation or maintenance (as it currently does), but to reduce the charges to $2,900 per year for the second, and $2,100 per year for each additional analyte class accreditation or maintenance of accreditation.

Timetable:

Action | Date | FR Cite
NPRM | 04/21/14 | 79 FR 22052
NPRM Comment Period End | 06/20/14
Final Action | 09/00/14

Regulatory Flexibility Analysis Required: Yes.

Agency Contact: Charles Williams, Director, Issuances Staff (IS), Department of Agriculture, Food Safety and Inspection Service, Office of Policy and Program Development, 1400 Independence Avenue SW., Room 6065, South Building, Washington, DC 20250-3700; Phone: 202 720-3885; Fax: 202 690-0486; Email: charles.williams@fsis.usda.gov.

RIN: 0583-AD55

DEPARTMENT OF AGRICULTURE (USDA)

Final Rule Stage

Food Safety and Inspection Service (FSIS)

24. Mandatory Inspection of Certain Fish, Including Catfish and Catfish Products

Legal Authority: Federal Meat Inspection Act (FMIA) (21 U.S.C. 601 to 695); Pub. L. 110-246, sec 11016; Pub. L. 113-79, sec 12106

Abstract: The Food, Conservation, and Energy Act of 2008 (Pub. L. 110-246, sec. 11016), known as the 2008 Farm Bill, and the Agricultural Act of 2014 (Pub. L. 113-79, sec. 12106), known as the 2014 Farm Bill, amended the Federal Meat Inspection Act (FMIA) to all fish of the order Siluriformes, including catfish, amenable under the FMIA. Amenable species must be inspected, so this rule will define inspection requirements for this type of fish, and, as required by the Agricultural Act of 2014, will take into account the conditions under which the fish is raised and transported to a processing establishment.

Timetable:

Action | Date | FR Cite
NPRM | 02/24/11 | 76 FR 10434
NPRM Comment Period End | 06/24/11
Final Action | 12/00/14

Regulatory Flexibility Analysis Required: Yes.

Agency Contact: Rachel Edelstein, Assistant Administrator, Office of Policy and Program Development, Department of Agriculture, Food Safety and Inspection Service, 1400 Independence Avenue SW., 350-E JLW Building, Washington, DC 20250-3700; Phone: 202 205-0495; Fax: 202 720-2025; Email: rachel.edelstein@fsis.usda.gov.

RIN: 0583-AD36

BILLING CODE 3410-DM-P

DEPARTMENT OF AGRICULTURE (USDA)

Proposed Rule Stage

Forest Service (FS)

25. Management of Surface Activities Associated With Outstanding Mineral Rights on National Forest System Lands

Legal Authority: EPA 1992

Abstract: Close to 11,000,000 acres (approximately 6 percent) of National Forest System lands overlie severed (split) mineral estates owned by a party other than the Federal Government. Over 75 percent of these lands are in the Eastern Region (Forest Service Regions 8 and 9). There are two kinds of severed mineral estates, generally known as “private rights”: Reserved and outstanding. Reserved mineral rights are those retained by a grantor in a deed conveying land to the United States. Outstanding mineral rights are those owned by a party other than the surface owner at the time the surface was conveyed to the United States. Because these are non-Federal mineral interests, the USDI Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently, there are no formal regulations governing the use of NFS lands for activities associated with the exercise of outstanding mineral rights underlying those lands. The Energy Policy Act of 1992, section 2508, directed the Secretary of Agriculture to: apply specified terms and conditions to surface-disturbing activities related to development of oil and gas on certain lands with outstanding mineral rights on the Allegheny National Forest, and promulgate regulations implementing that section.

The Forest Service initiated rulemaking for the use of NFS lands for development activities associated with both reserved and outstanding minerals rights with an Advance Notice of Proposed Rulemaking (ANPRM) in the Federal Register on December 29, 2008. Comments from the public in response to the ANPRM conveyed a high level of concern about the broad scope of the rule, along with a high level of concern about effects of a broad rule on small businesses and local economies.

Timetable:

Action | Date | FR Cite
ANPRM | 12/29/08 | 73 FR 79424
ANPRM Comment Period End | 02/27/09
NPRM | 08/00/14

Regulatory Flexibility Analysis Required: Yes.

Agency Contact: LaRenda C King, Assistant Director, Directives and Regulations, Department of Agriculture, Forest Service, ATTN: ORMS, D&R Branch, 1400 Independence Avenue SW., Washington, DC 20250-0003; Phone: 202 205-6560; Email: larendacking@fs.fed.us.

RIN: 0596-AD03

26. Ski Area—D Clauses: Resource and Improvement Protection, Water Facilities and Water Rights

Legal Authority: FSH 2709.11

Abstract: On November 8, 2011, the Forest Service issued an interim directive (FSH 2709.11-2011-3) including a revised clause to address the ownership of water rights developed on National Forest System (NFS) lands for use by ski area permit holders. On March 6, 2012, a second interim directive (FSH 2709.11-2012-1) for the revised ski area water rights clause was issued, superseding the 2011 version. The National Ski Areas Association filed a lawsuit in the United States District Court for the District of Colorado on March 12, 2012, opposing use of the revised clause. On December 19, 2012, the court ruled that the Forest Service had erred in not providing an opportunity for notice and comment on the interim directive and that the agency needed to conduct a Regulatory Flexibility Act analysis of the impact of the directive on small business entities that hold ski area permits. The court vacated the interim directive and enjoined enforcement of the 2011 and 2012 clauses in permits containing them.

The Forest Service intends to publish the proposed ski area water rights clause in the Federal Register for public notice and comment. To identify interests and views from a diverse group of stakeholders regarding a revised water rights clause for ski areas, the Forest Service held four stakeholder meetings in April 2013. The input from the stakeholder sessions will be considered in the development of a proposed water rights clause for ski areas.

The proposed directive would address the development of water facilities on NFS lands; the ownership of preexisting and future water rights; mechanisms to ensure sufficient water remains for ski areas on NFS lands; and measures necessary to protect NFS lands and resources.

Timetable:

Action | Date | FR Cite
NPRM | 05/00/14

Regulatory Flexibility Analysis Required: Yes.

Agency Contact: LaRenda C King, Assistant Director, Directives and Regulations, Department of Agriculture, Forest Service, ATTN: ORMS, D&R Branch, 1400 Independence Avenue SW., Washington, DC 20250-0003; Phone: 202 205-6560; Email: larendacking@fs.fed.us.

RIN: 0596-AD14

[FR Doc. 2014-13112 Filed 6-12-14; 8:45 am]

BILLING CODE 3410-11-P